DEPARTMENT OF DEFENSE

Defense Acquisition Regulations System

[Docket Number DARS-2022-0033; OMB Control Number 0750-0001]

Information Collection Requirement; Defense Federal Acquisition Regulation Supplement Performance-Based Payments—Representation

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by March 29, 2023.

SUPPLEMENTARY INFORMATION:

Title and OMB Number: Defense Federal Acquisition Regulation Supplement (DFARS) Performance-Based Payments—Representation; OMB Control Number 0750-0001.

Type of Request: Extension of a currently approved collection.

Affected Public: Businesses or other for-profit and not-for-profit institutions.

Respondent's Obligation: Required to obtain or retain benefits.

Number of Respondents: 710.

Annual Responses: 710.

Annual Burden Hours: 71.

Reporting Frequency: On Occasion.

Needs and Uses: This information collection concerns the Defense Federal Acquisition Regulation Supplement (DFARS) solicitation provision at 252.232-7015, Performance-Based Payments—Representation. This provision is prescribed at DFARS 232.1005-70(b) for use in solicitations where the resulting contract may include performance-based payments. This representation is included in the annual representations and certifications in the System for Award Management. Paragraph (b) of the provision requires the offeror to check a box indicating whether the offeror's financial statements are in compliance with Generally Accepted Accounting Principles. DoD will use this information to decide whether the offeror is eligible for performance-based payments. The burden has increased due to the use of current labor rates and current data from the Federal Procurement Data System.

Comments and recommendations on the proposed information collection should be sent to Ms. Susan Minson, DoD Desk Officer, at Oira_submission@omb.eop.gov. Please identify the proposed information collection by DoD Desk Officer and the Docket ID number and title of the information collection.

You may also submit comments, identified by docket number and title, by the following method: Federal eRulemaking Portal: https://www.regulations.gov. Follow the instructions for submitting comments.

DoD Clearance Officer: Ms. Angela Duncan. Requests for copies of the information collection proposal should be sent to Ms. Duncan at whs.mc-alex.esd.mbx.dd-dod-information-collections@mail.mil.

Jennifer D. Johnson,
Editor/Publisher, Defense Acquisition Regulations System.

[FR Doc. 2023-03905 Filed 2-24-23; 8:45 am]

BILLING CODE 5001-06-P